DEPARTMENT OF THE INTERIOR

Bureau of Indian Affairs

[DR.5B711.IA000814]

Indian Gaming

AGENCY: Bureau of Indian Affairs, Interior.

ACTION: Notice of approved Tribal-State Class III Gaming Compact.

SUMMARY: This notice publishes the approval of an amendment to the Class III Tribal-State Gaming Compact (Amendment), between the Crow Tribe of Montana (Tribe), and the State of Montana (State).

DATES: Effective Date: February 7, 2014.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act (IGRA) Public Law 100-497, 25 U.S.C. 2701 et seq., the Secretary of the Interior shall publish in the Federal Register notice of approved Tribal-State compacts for the purpose of engaging in Class III gaming activities on Indian lands. On December 18, 2013, the Amendment was submitted for review and approval. The Amendment includes all lands contiguous to the Crow Reservation and extends the term for 15 years from the date the Amendment becomes effective. The Tribe is authorized to operate 925 gaming devices, increase the prize value, and wager limits. As required by 25 CFR 293.4, all compacts and amendments are subject to review and approval by the Secretary, and pursuant to 25 U.S.C. 2710(d)(3)(B), an approved compact or amendment takes effect when notice of its approval is published in the Federal Register.

Dated: January 30, 2014.
Kevin K. Washburn,
Assistant Secretary—Indian Affairs.

[FR Doc. 2014-02594 Filed 2-6-14; 8:45 am]

BILLING CODE 4310-4N-P